DEPARTMENT OF HEALTH AND HUMAN SERVICES

Administration for Children and Families

Notice of Reallotment of Federal Fiscal Year (FFY) 2011 Funds for the Low Income Home Energy Assistance Program (LIHEAP)

AGENCY: Administration for Children and Families, Office of Community Services, Division of Energy Assistance, HHS.

ACTION: Notice of LIHEAP Funds Reallotment.

CFDA NUMBER: 93.568.

Statutory Authority: 45 CFR 96.81 and 42 U.S.C. 8621 et seq.

SUMMARY: This notice provides information on a preliminary determination that funds from the Federal Fiscal Year (FFY) 2011 Low Income Home Energy Assistance Program (LIHEAP) are available for reallotment to States, Territories, Tribes, and Tribal Organizations that receive FFY 2012 direct LIHEAP grants. No subgrantees or other entities may apply for these funds. Section 2607(b)(1) of the Low Income Home Energy Assistance Act (the Act), Title XXVI of the Omnibus Budget Reconciliation Act of 1981 (42 U.S.C. 8621 et seq.), as amended, requires that if the Secretary of the Department of Health and Human Services (HHS) determines that, as of September 1 of any fiscal year, an amount in excess of certain levels allotted to a grantee for any fiscal year will not be used by the grantee during the fiscal year, the Secretary must notify the grantee and publish a notice in the Federal Register that such funds may be realloted to LIHEAP grantees during the following fiscal year. If reallotted, the LIHEAP block grant allocation formula will be used to distribute the funds. (No funds may be allotted to entities that are not direct LIHEAP grantees during FFY 2012.) It has been determined that $3,089,920 may be available for reallotment during FFY 2012. This determination is based on revised Carryover and Reallotment Reports from the State of Delaware, State of Oklahoma, Colorado River Indian Tribes in Arizona, Delaware Tribe of Indians in Oklahoma, Redding Rancheria in California, and Tulalip Tribe in Washington, which were submitted to the Office of Community Services as required by 45 CFR 96.82.

The statute allows grantees who have funds unobligated at the end of the fiscal year for which they are awarded to request that they be allowed to carry over up to 10 percent of their allotments to the next fiscal year. Funds in excess of this amount must be returned to HHS and are subject to reallotment under section 2607(b)(1) of the Act. The amount described in this notice was reported as unobligated FFY 2011 funds in excess of the amount that the State of Delaware, State of Oklahoma, Delaware Tribe of Indians, Colorado River Indian Tribes, Redding Rancheria and Tulalip Tribe could carry over to FFY 2012.

Each of the grantees mentioned above were notified and confirmed to OCS that the FFY 2011 amounts listed in the chart below may be reallotted. In accordance with section 2607(b)(3), the Chief Executive Officers of the grantees referenced in the chart below have 30 days from the date of this publication to submit comments to: Jeannie L. Chaffin, Director, Office of Community Services, 370 L'Enfant Promenade SW., Washington, DC 20447.

The comment period expires September 13, 2012.

After considering any comments submitted, the Chief Executive Officers will be notified of the final reallotment amount, and this decision also will be published in the Federal Register. If funds are reallotted, they will be allocated in accordance with section 2604 of the Act and must be treated by LIHEAP grantees receiving them as an amount appropriated for FFY 2013. As FFY 2013 funds, they will be subject to all requirements of the Act, including section 2607(b)(2), which requires that a grantee obligate at least 90 percent of its total block grant allocation for a fiscal year by the end of the fiscal year for which the funds are appropriated, or by September 30, 2013.

Estimated Reallotment Amounts of FFY 2011 LIHEAP Funds
Grantee name | FFY 2011 reallotment amount
State of Delaware | $1,176,027
State of Oklahoma | 1,738,022
Colorado River Indian Tribes | 23,919
Delaware Tribe of Indians | 24,958
Redding Rancheria | 26,967
Tulalip Tribe | 100,027
Total | 3,089,920

FOR FURTHER INFORMATION CONTACT: Nick St. Angelo, Director, Division of Energy Assistance, Office of Community Services, 370 L'Enfant Promenade SW., Washington, DC 20447, Telephone (202) 401-9351, Email: nick.stangelo@acf.hhs.gov.

Dated: July 20, 2012.
Jeannie L. Chaffin,
Director, Office of Community Services.

[FR Doc. 2012-19827 Filed 8-13-12; 8:45 am]

BILLING CODE 4184-01-P